DEPARTMENT OF ENERGY

Federal Energy Regulatory Commission

Combined Notice of Filings #1

Take notice that the Commission received the following electric corporate filings:

Docket Numbers: EC18-56-000.

Applicants: AGH Parent LLC, Agera Energy LLC, energy.me midwest llc, Aequitas Energy, Inc.

Description: Application for Authorization Under Section 203 of the Federal Power Act, et al. of AGH Parent LLC, et al.

Filed Date: 2/12/18.

Accession Number: 20180212-5242.

Comments Due: 5 p.m. ET 3/5/18.

Take notice that the Commission received the following electric rate filings:

Docket Numbers: ER18-843-000.

Applicants: Midcontinent Independent System Operator, Inc.

Description: § 205(d) Rate Filing: 2018-02-13_Cancellation of Schedule 43H White Pine 1 SSR Cost Allocation to be effective 4/15/2018.

Filed Date: 2/13/18.

Accession Number: 20180213-5044.

Comments Due: 5 p.m. ET 3/6/18.

Docket Numbers: ER18-844-000.

Applicants: Backbone Mountain Windpower LLC.

Description: § 205(d) Rate Filing: Market-Based Rate Notice of Change in Status to be effective 2/13/2018.

Filed Date: 2/13/18.

Accession Number: 20180213-5155.

Comments Due: 5 p.m. ET 3/6/18.

Docket Numbers: ER18-845-000.

Applicants: Diablo Winds, LLC.

Description: § 205(d) Rate Filing: Market-Based Rate Notice of Change in Status to be effective 2/13/2018.

Filed Date: 2/13/18.

Accession Number: 20180213-5158.

Comments Due: 5 p.m. ET 3/6/18.

Docket Numbers: ER18-846-000.

Applicants: GPS Cabazon Wind LLC.

Description: § 205(d) Rate Filing: Market-Based Rate Notice of Change in Status to be effective 2/13/2018.

Filed Date: 2/13/18.

Accession Number: 20180213-5164.

Comments Due: 5 p.m. ET 3/6/18.

Docket Numbers: ER18-847-000.

Applicants: American Transmission Systems, Inc., PJM Interconnection, L.L.C.

Description: § 205(d) Rate Filing: ATSI submits ECSAs, Service Agreement Nos. 4865 and 4896 to be effective 4/15/2018.

Filed Date: 2/13/18.

Accession Number: 20180213-5165.

Comments Due: 5 p.m. ET 3/6/18.

Docket Numbers: ER18-848-000.

Applicants: Meyersdale Windpower LLC.

Description: § 205(d) Rate Filing: Market-Based Rate Notice of Change in Status to be effective 2/13/2018.

Filed Date: 2/13/18.

Accession Number: 20180213-5166.

Comments Due: 5 p.m. ET 3/6/18.

Docket Numbers: ER18-849-000.

Applicants: Mill Run Windpower, LLC.

Description: § 205(d) Rate Filing: Market-Based Rate Notice of Change in Status to be effective 2/13/2018.

Filed Date: 2/13/18.

Accession Number: 20180213-5172.

Comments Due: 5 p.m. ET 3/6/18.

Docket Numbers: ER18-850-000.

Applicants: Somerset Windpower LLC.

Description: § 205(d) Rate Filing: Market-Based Rate Notice of Change in Status to be effective 2/13/2018.

Filed Date: 2/13/18.

Accession Number: 20180213-5175.

Comments Due: 5 p.m. ET 3/6/18.

Docket Numbers: ER18-851-000.

Applicants: Waymart Wind Farm LLC.

Description: § 205(d) Rate Filing: Market-Based Rate Notice of Change in Status to be effective 2/13/2018.

Filed Date: 2/13/18.

Accession Number: 20180213-5176.

Comments Due: 5 p.m. ET 3/6/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2018.
Nathaniel J. Davis, Sr.,
Deputy Secretary.

[FR Doc. 2018-03380 Filed 2-16-18; 8:45 am]

BILLING CODE 6717-01-P